DEPARTMENT OF EDUCATION

National Assessment Governing Board; Meeting

AGENCY: National Assessment Governing Board, Education.

ACTION: Notice of open meeting and partially closed meeting.

SUMMARY: The notice sets forth the schedule and proposed agenda of a forthcoming meeting of the National Assessment Governing Board. This notice also describes the functions of the Board. Notice of this meeting is required under section 10(a)(2) of the Federal Advisory Committee Act. This document is intended to notify members of the general public of their opportunity to attend. Individuals who will need special accommodations in order to attend the meeting (i.e., interpreting services, assistive listening devices, materials in alternative format) should notify Munira Mwalimu at 202-357-6938 or at Munira.Mwalimu@ed.gov no later than May 1, 2006. We will attempt to meet requests after this date, but cannot guarantee availability of the requested accommodation. The meeting site is accessible to individuals with disabilities.

DATES: May 18-20, 2006.

Times

May 18

Committee Meetings

Ad Hoc Committee on Planning for NAEP 12th Grade Assessments in 2009: Open Session—12 p.m. to 2 p.m.

Assessment Development Committee: Open Session—2 p.m. to 4 p.m.

Reporting and Dissemination Committee: Open Session—2 p.m. to 4:30 p.m.

Executive Committee: Open Session—4:45 p.m. to 5:15 p.m.; Closed Session 5:15 p.m. to 6:15 p.m.

May 19

Full Board: Open Session—8:30 a.m. to 4:30 p.m.

Committee Meetings

Assessment Development Committee: Open Session—9:45 a.m. to 12:15 p.m.

Committee on Standards, Design and Methodology: Open Session—9:45 a.m. to 12:15 p.m.

Reporting and Dissemination Committee: Open Session—9:45 a.m. to 12:15 p.m.

May 20

Nominations Committee: Closed Session—7:45 a.m. to 8:30 a.m.

Full Board: Closed Session—9 a.m. to 9:15 a.m.; Open Session—9:15 a.m. to 12 p.m.

Location: The Ritz-Carlton Dearborn, 300 Town Center Drive, Fairlane Plaza, Dearborn, MI 48126.

FOR FURTHER INFORMATION: Munira Mwalimu, Operations Officer, National Assessment Governing Board, 800 North Capitol Street, NW., Suite 825, Washington, DC, 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

The Ad Hoc Committee on Planning for NAEP 12th Grade Assessments in 2009 will meet in open session on may 18 from 12 p.m. to 2 p.m. The Assessment Development Committee will meet in Open Session on May 18 from 2 p.m. to 4 p.m. and the Reporting and Dissemination Committee will meet in open session on May 18 from 2 p.m. to 4:30 p.m. Thereafter, the Executive Committee will meet in open session from 4:45 p.m. to 5:15 p.m.

The Executive Committee will meet in closed session on May 18, 2006 from 5:15 p.m. to 6:15 p.m. The Committee will receive independent government cost estimates from the Associate Commissioner, National Center for Education Statistics (NCES), for current contracts and proposed contracts for item development, sample selection, analysis, and reporting of NAEP testing for 2007-2012, and their implications on future NAEP activities. The discussion of independent government cost estimates prior to the development of the Request for Proposals for the National Assessment of Educational Progress (NAEP) 2007-2012 contracts is necessary for ensuring that NAEP contracts meet congressionally mandated goals and adhere to Board policies on NAEP assessments. This part of the meeting must be conducted in closed session because public disclosure of this information would likely have an adverse financial effect on the NAEP program and will provide an advantage to potential bidders attending the meeting. Discussion of this information would be likely to significantly impede implementation of a proposed agency action is conducted in open session. Such matters are protected by exemption 9(B) of section 552b(c) of Title 5 U.S.C.

On May 19, the full Board will meet in open session from 8:30 a.m. to 4:30 p.m. From 8:30 a.m. to 9:30 a.m. the Board will approve the agenda, receive the Executive Director's report, and hear an update on the work of the National Center for Education Statistics (NCES).

From 9:45 a.m. to 12:15 p.m. on May 19, the Board's standing committees—the Assessment Development Committee; the Committee on Standards, Design and Methodology; and the Reporting and Dissemination Committee—will meet in open session.

On May 19, the full Board will meet in closed session from 12:15 p.m. to 1:30 p.m. The Board will receive a briefing provided by the Associate Commissioner, NCES, on the NAEP 2005 Science results for grades 4, 8, and 12. The NAEP 2005 Science data constitute a major basis for the national release of the Science Report Card in late May 2006, and cannot be released in an open meeting prior to the official release of the reports. The meeting must therefore be conducted in closed session as disclosure of data would significantly impede implementation of the NAEP release activities, and is therefore protected by exemption 9(B) of section 552b(c) of Title 5 U.S.C.

On May 19, from 1:30 p.m. to 2:30 p.m. the Board will discuss and take action on the NAEP 12th Grade Mathematics Objectives. This session will be followed by a panel presentation and discussion of the Michigan High School initiative, upon which the May 19 session of the Board meeting will conclude.

On May 20, 2006 from 7:45 a.m. to 8:30 a.m. the Nominations Committee will meet in closed session to discuss nominations for Board vacancies. Following this meeting on May 20 form 9 a.m. to 9:15 a.m. the full Board will meet in closed session to review the final list of nominations prior to submission to the Secretary of Education. Board action on the nominations will follow thereafter in open session. The May 20 discussions of the Nominations Committee and of the full Board in closed sessions pertain solely to internal personnel rules and practices of an agency and will disclose information of a personal nature where disclosure would constitute an unwarranted invasion of personal privacy. As such, the discussion are protected by exemptions 2 and 6 of section 552b(c) of Title 5 U.S.C.

The full Board will convene in open session on May 20 from 9:15 a.m. to 12 p.m. At 9 a.m., the Board will receive a briefing on how sampling works in NAEP. This will be followed by an update on the NAEP 2011 Writing Framework project from 9:45 a.m. to 10:30 a.m. Board actions on policies and Committee reports are scheduled to take place between 10:45 a.m. and 12 p.m., upon which the May 20, 2006 session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite 825, 800 North Capitol Street, NW., Washington, DC, from 9 a.m. to 5 p.m. eastern standard time.

Dated: April 26, 2006.
Charles E. Smith,
Executive Director, National Assessment Governing Board.

[FR Doc. 06-4092 Filed 5-1-05; 8:45 am]

BILLING CODE 4000-01-M